DEPARTMENT OF THE INTERIOR

Bureau of Land Management

[NV-010-1990-EX; 08-08807; TAS: 14X1109]

Notice of Intent To Prepare an Environmental Impact Statement for Newmont Mining Corporation's Amendment to the Genesis-Bluestar Plan of Operations, Nevada

AGENCY: Bureau of Land Management, Interior.

ACTION: Notice.

SUMMARY: In accordance with section 102(2)(c) of the National Environmental Policy Act of 1969 and 43 CFR 3809, the Bureau of Land Management (BLM), Elko District Office will prepare an Environmental Impact Statement (EIS) to analyze the environmental effects of a proposed amendment to Newmont Mining Corporation's Plan of Operations for Genesis-Bluestar, an open pit gold mine. The area of operations is located 20 miles north of Carlin, Nevada in Eureka County. The amendment proposes continued mining in an area that has been mined more or less continuously since the early 1990s.

DATES: This notice initiates the 30-day public scoping period. Within 30 days of the publication of this notice in the Federal Register, a public scoping meeting will be held at the BLM Elko District Office, 3900 East Idaho Street, Elko, Nevada, to familiarize interested publics with the project and to identify issues and concerns to be addressed in the EIS. The scoping meeting will be announced through the local news media, newsletters, and the BLM Web site at http://www.nv.blm.gov at least 15 days prior to the event. Any additional public meetings, if necessary, will be announced similarly. Comments on issues can also be submitted in writing to the address listed below and for 30 days after publication of this notice in the Federal Register. In addition to the ongoing public participation process, formal opportunities for public participation will be provided upon publication of the Draft EIS.

ADDRESSES: Comments may be submitted by any of the following methods:

—Fax: (775) 753-0255

—Mail: Attention Genesis-Bluestar Project EIS Manager, BLM Elko District Office, 3900 East Idaho Street, Elko, NV 89801

—E-mail: kirk_laird@nv.blm.gov

FOR FURTHER INFORMATION CONTACT: Kirk Laird, (775) 753-0272.

SUPPLEMENTARY INFORMATION: The proposed amendment would expand Newmont's existing mining operations by an additional 43 acres of new disturbance (24 acres of public land and 19 acres of private land) in an area heavily disturbed by mining. The project proposes to expand the Genesis and West Genesis open pits, develop the new Bluestar Ridge Pit; backfill the Beast, Bluestar, Genesis, and West Genesis open pits; expand the Section 36 and Section 5 Waste Rock Disposal Facilities; construct the necessary haul roads and access roads; process 60 million tons of gold-bearing ore; and continue employment and economic activity for the local area for 12 additional years.

Focal points for the EIS include: 1. analyze the cumulative impacts of mining and related actions along the Carlin Trend, including incorporation of the re-analysis of cumulative impacts for the Leeville Project and South Operations Area Project; 2. analyze any release of mercury that may be associated with processing the 60 million tons of ore; and 3. analyze the socio-economic impacts of twelve additional years of mining.

The BLM is asking the public for information on any issues, including cumulative impacts, relevant to this amendment. Comments, including names and street addresses of respondents, will be available for public review at the above address during regular business hours 7:30 a.m. to 4:30 p.m., Monday through Friday, except holidays, and may be published as part of the EIS. Before including your address, phone number, e-mail address, or other personal identifying information in your comment, be advised that your entire comment—including your personal identifying information—may be made publicly available at any time. While you can ask us in your comment to withhold from public review your personal identifying information, we cannot guarantee that we will be able to do so. We will not consider anonymous comments. All submissions from organizations or businesses, and from individuals identifying themselves as representatives or officials of organizations or businesses, will be available for public inspection in their entirety.

(Authority: 43 CFR 2809)

Dated: February 19, 2008.
Kenneth E. Miller,
Elko District Manager.

[FR Doc. E8-3578 Filed 3-17-08; 8:45 am]

BILLING CODE 4310-HC-P